FEDERAL DEPOSIT INSURANCE CORPORATION

12 CFR Part 327

RIN 3064-AD35

Assessments

AGENCY: Federal Deposit Insurance Corporation.

ACTION: Proposed rule; extension of comment period.

SUMMARY: On October 7, 2008, the Federal Deposit Insurance Corporation (FDIC) issued a notice of proposed rulemaking with request for comments on revisions to 12 CFR part 327 (see 73 FR 61560). The rulemaking proposed effective January 1, 2009, to raise the current assessment rates uniformly by seven basis points for the first quarter 2009 assessment period only; effective April 1, 2009, alter the way in which the FDIC's risk-based assessment system differentiates for risk and again change deposit insurance assessment rates; and also effective April 1, 2009, make technical and other changes to the rules governing the risk-based assessment system. The proposed rules were published for a 30-day comment period, which is scheduled to close on November 17, 2008. In order to afford interested parties additional time beyond the present 30-day comment period to review the proposals with an April 1, 2009 effective date, the FDIC is extending the period for public comment by 30 days, that is, until December 17, 2008. The present 30-day comment period for the proposed seven basis point rate increase for the first quarter of 2009 only, with its separate proposed effective date of January 1, 2009, is not extended and will expire on November 17, 2008.

DATES: Comments must be received on or before December 17, 2008.

ADDRESSES: You may submit comments, identified by RIN number, by any of the following methods:

• Agency Web Site: http://www.fdic.gov/regulations/laws/federal/propose.html. Follow instructions for submitting comments on the Agency Web Site.

• E-mail: Comments@FDIC.gov. Include the RIN number in the subject line of the message.

• Mail: Robert E. Feldman, Executive Secretary, Attention: Comments, Federal Deposit Insurance Corporation, 550 17th Street, NW., Washington, DC 20429

• Hand Delivery/Courier: Guard station at the rear of the 550 17th Street Building (located on F Street) on business days between 7 a.m. and 5 p.m.

Instructions: All submissions received must include the agency name and RIN for this rulemaking. All comments received will be posted without change to http://www.fdic.gov/regulations/laws/federal/propose.html including any personal information provided.

FOR FURTHER INFORMATION CONTACT: Munsell W. St. Clair, Chief, Banking and Regulatory Policy Section, Division of Insurance and Research, (202) 898-8967; and Christopher Bellotto, Counsel, Legal Division, (202) 898-3801.

SUPPLEMENTARY INFORMATION: In its notice of proposed rulemaking (73 FR 61560), the FDIC proposes to improve the way the assessment system differentiates risk among insured institutions by drawing upon measures of risk that were not included when the FDIC first revised its assessment system pursuant to the Federal Deposit Insurance Reform Act of 2005 and the Federal Deposit Insurance Reform Conforming Amendments Act of 2005 (collectively, the Reform Act).¹ The proposal will make the assessment system more sensitive to risk and the risk-based assessment system fairer, by limiting the subsidization of riskier institutions by safer ones. In addition, the FDIC proposes to change assessment rates, including base assessment rates, and to raise assessment revenue as required under the FDIC's October 7, 2008 Restoration Plan (73 FR 61598).

¹ Federal Deposit Insurance Reform Act of 2005, Public Law 109-171, 120 Stat. 9; Federal Deposit Insurance Conforming Amendments Act of 2005, Public Law 109-173, 119 Stat. 3601.

In this rulemaking, the FDIC requested comment on proposed rules that would (1) effective January 1, 2009, raise current assessment rates uniformly by seven basis points for the first quarter 2009 assessment period only; (2) effective April 1, 2009, alter the way in which the risk-based assessment system differentiates for risk and again change deposit insurance assessment rates; and (3) also effective April 1, 2009, make technical and other changes to the rules governing the risk-based assessment system. The proposed rules were published on October 16, 2008, for a 30-day comment period, which is scheduled to close on November 17, 2008.

To afford interested parties additional time beyond the present 30-day comment period to review only those portions of the proposal that would become effective April 1, 2009 (items (2) and (3) above), the FDIC is extending the period for public comment by 30 days. In light of this determination, the FDIC is providing the public additional time to comment on these aspects of the proposal, and requests that you submit your comments by December 17, 2008.

The present 30-day comment period for the proposed seven basis point rate increase for the January 2009 assessment period only, which has a separate proposed effective date of January 1, 2009, is not extended and will expire as originally provided on November 17, 2008.

Dated at Washington DC, this 7th day of November 2008.
By order of the Board of Directors.
Federal Deposit Insurance Corporation.
Valerie J. Best,
Assistant Executive Secretary.

[FR Doc. E8-26972 Filed 11-13-08; 8:45 am]

BILLING CODE 6714-01-P